DEPARTMENT OF AGRICULTURE

Federal Crop Insurance Corporation

7 CFR Part 457

[Docket No. FCIC-11-0008]

RIN 0563-AC35

Common Crop Insurance Regulations; Pecan Crop Insurance Provisions; Correction

AGENCY: Federal Crop Insurance Corporation, USDA.

ACTION: Final rule; correcting amendment.

SUMMARY: This document contains a correction to the final regulation that was published Thursday, February 28, 2013 (78 FR 13454-13460). The regulation pertains to the insurance of Pecans.

DATES: Effective Date: June 5, 2013.

FOR FURTHER INFORMATION CONTACT: Tim Hoffmann, Director, Product Administration and Standards Division, Risk Management Agency, United States Department of Agriculture, Beacon Facility, Stop 0812, Room 421, PO Box 419205, Kansas City, MO 64141-6205, telephone (816) 926-7730.

SUPPLEMENTARY INFORMATION:

Background

The final regulation that is the subject of this correction revised the Pecan Crop Insurance Provisions that published on Thursday, February 28, 2013 (78 FR 13454-13460).

Need for Correction

As published, the final regulation contained a clerical error that may prove to be misleading and needs to be clarified. In section 4(d), text was added in the incorrect part of the paragraph and instructions describing where to add the text was inadvertently added to the paragraph.

List of Subjects in 7 CFR Part 457

Crop insurance, Pecan revenue, Reporting and recordkeeping requirements.

Correction of Publication

Accordingly, 7 CFR part 457 is corrected by making the following correcting amendment:

PART 457—COMMON CROP INSURANCE REGULATIONS

1. The authority citation for 7 CFR Part 457 continues to read as follows:

Authority: 7 U.S.C. 1506(l), 1506(o).

2. Amend § 457.167 by revising section 4(d) to read as follows:

§ 457.167 Pecan revenue crop insurance provisions.

* * * * *

4. * * *

* * * * *

(d) After the contract change date, all changes specified in section 4(b) will also be available upon request from your crop insurance agent. You will be provided, in writing, a copy of the changes to the Basic Provisions, Crop Provisions, and a copy of the Special Provisions. If changes are made that will be effective for the second year of the two-year coverage module, such copies will be provided not later than 30 days prior to the termination date. If changes are made that will be effective for a subsequent two-year coverage module, such copies will be provided not later than 30 days prior to the cancellation date. If available from us, you may elect to receive these documents and changes electronically. For changes effective for subsequent two-year coverage modules, acceptance of the changes will be conclusively presumed in the absence of written notice from you to change or cancel your insurance coverage in accordance with the terms of this policy.

* * * * *

Signed in Washington, DC, on May 29, 2013.
Brandon Willis,
Manager, Federal Crop Insurance Corporation.

[FR Doc. 2013-13358 Filed 6-4-13; 8:45 am]

BILLING CODE 3410-08-P